ENVIRONMENTAL PROTECTION AGENCY

[OPP-2003-0012; FRL-7288-1]

Organophosphate Pesticide; Availability of Dicrotophos Interim Risk Management Decision Document

AGENCY: Environmental Protection Agency (EPA).

ACTION: Notice.

SUMMARY: This notice announces the availability of the interim risk management decision document for the organophosphate pesticide dicrotophos. This decision document has been developed as part of the public participation process that EPA and U.S. Department of Agriculture (USDA) are now using for involving the public in the reassessment of pesticide tolerances under the Food Quality Protection Act (FQPA), and the reregistration of individual organophosphate pesticides under the Federal Insecticide, Fungicide, and Rodenticide Act (FIFRA).

FOR FURTHER INFORMATION CONTACT: Laura Parsons, Special Review and Reregistration Division (7508C), Office of Pesticide Programs, Environmental Protection Agency, 1200 Pennsylvania Ave., NW., Washington, DC 20460-0001; telephone number: (703) 305-5776; e-mail address: parsons.laura@epa.gov.

SUPPLEMENTARY INFORMATION:

I. General Information

A. Does this Action Apply to Me?

This action is directed to the public in general, nevertheless, a wide range of stakeholders will be interested in obtaining the interim risk management decision document for dicrotophos, including environmental, human health, and agricultural advocates; the chemical industry; pesticide users; and members of the public interested in the use of pesticides on food. Since other entities also may be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2003-0012. The official public docket consists of the document specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

For questions on the IRED in this document, contact the Chemical Review Manager listed under FOR FURTHER INFORMATION CONTACT.

II. What Action is the Agency Taking?

EPA has assessed the risks of dicrotophos and reached an Interim Reregistration Eligibility Decision (IRED) for this organophosphate pesticide. Provided that risk mitigation measures are adopted, dicrotophos fits into its own risk cup — its individual, aggregate risks are within acceptable levels. A restricted use chemical used mainly to control insects on cotton, dicrotophos residues in food and drinking water do not pose risk concerns. There are no residential uses and therefore dicrotophos fits into its own risk cup. To reduce worker and ecological risks, dicrotophos may no longer be applied by aerial equipment, closed mixing/loading systems and closed cabs are required, and total seasonal maximum application is limited to 0.83 lb active ingredient and only 0.5 lb of this can be applied prior to August 1 of any year. Additionally, to ensure that dicrotophos use does not increase dramatically in the future, a production cap is required to limit production to an average of the annual amount produced in 1999, 2000 and 2001. These mitigation measures are expected to reduce, but not eliminate worker and ecological risks. These risks are offset by the benefit of dicrotophos to control certain insects in cotton.

The interim risk management decision document for dicrotophos was made through the organophosphate pesticide pilot public participation process, which increases transparency and maximizes stakeholder involvement in EPA's development of risk assessments and risk management decisions. The pilot public participation process was developed as part of the EPA-USDA Tolerance Reassessment Advisory Committee (TRAC), which was established in April 1998, as a subcommittee under the auspices of EPA's National Advisory Council for Environmental Policy and Technology. A goal of the pilot public participation process is to find a more effective way for the public to participate at critical junctures in the Agency's development of organophosphate pesticide risk assessments and risk management decisions. EPA and USDA began implementing this pilot process in August 1998, to increase transparency and opportunities for stakeholder consultation.

EPA worked extensively with affected parties to reach the decisions presented in the interim risk management decision document, which conclude the pilot public participation process for dicrotophos. As part of the pilot public participation process, numerous opportunities for public comment were offered as the interim risk management decision document was being developed. The dicrotophos interim risk management decision document therefore is issued without a formal public comment period concluding review of the individual organophosphate pesticide. The docket remains open, however, and any comments submitted in the future will be placed in the public docket.

The risk assessments for dicrotophos were released to the public through notices published in the Federal Register on November 10, 1999 (64 FR 61332) (FRL-6393-9), and June 14, 2000 (65 FR 37371) (FRL-6593-4).

EPA's next step under FQPA is to complete a cumulative risk assessment and risk management decision for the organophosphate pesticides, which share a common mechanism of toxicity. The interim risk management decision document on dicrotophos cannot be considered final until this cumulative assessment is complete.

When the cumulative risk assessment for the organophosphate pesticides has been completed, EPA will issue its final tolerance reassessment decision for dicrotophos and further risk mitigation measures may be needed.

List of Subjects

Environmental protection, Chemicals, Pesticides and pests.

Dated: January 22, 2003.
Lois A Rossi,
Director, Special Review and Reregistration Division, Office of Pesticide Programs.

[FR Doc. 03-2775 Filed 2-4-03; 8:45 am]

BILLING CODE 6560-50-S